DEPARTMENT OF TRANSPORTATION

Federal Aviation Administration

14 CFR Part 39

[Docket No. FAA-2014-0527; Directorate Identifier 2014-NM-045-AD; Amendment 39-18071; AD 2015-02-04]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model MYSTERE-FALCON 50 airplanes. This AD was prompted by a report of an untimely and intermittent indication of slat activity due to chafing of the electrical wiring under the glare shield and behind the flight deck front panel. This AD requires installing two protective plates between the electrical wiring under the glare shield and the engine fire pull handles. We are issuing this AD to prevent chafing of the electrical wiring, which could result in a short circuit and generation of smoke in the cockpit, potential loss of several functions essential for safe flight, and consequent reduced controllability of the airplane.

DATES: This AD becomes effective March 6, 2015.

The Director of the Federal Register approved the incorporation by reference of a certain publication listed in this AD as of March 6, 2015.

ADDRESSES: You may examine the AD docket on the Internet at http://www.regulations.gov/#!docketDetail;D=FAA-2014-0527 or in person at the Docket Management Facility, U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM 116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Dassault Aviation Model MYSTERE-FALCON 50 airplanes. The NPRM published in the Federal Register on August 12, 2014 (79 FR 47031).

The European Aviation Safety Agency (EASA), which is the Technical Agent for the Member States of the European Union, has issued EASA Airworthiness Directive 2014-0024, dated January 23, 2014 (referred to after this as the Mandatory Continuing Airworthiness Information, or “the MCAI”), to correct an unsafe condition on certain Dassault Aviation Model MYSTERE-FALCON 50 airplanes. The MCAI states:

One operator experienced an untimely and intermittent indication of slat activity on his aeroplane. The results of the subsequent investigation revealed that electrical wiring under the glare shield and behind the flight deck front panel was chafing with hardware and was short-circuited to ground. This situation may have resulted from an incorrect installation of the wiring during a previous maintenance action in the area. A design review identified a lack of protection of the affected electrical wiring bundle, which would have prevented damage caused by chafing with aeroplane structural parts.

This condition, if not corrected, might lead to an electrical short circuit and generation of smoke, possibly affecting operation of systems and resulting in reduced control of the aeroplane.

To address this potential unsafe condition, Dassault Aviation issued [service bulletin] SB F50-530, providing instructions for installation of a protective plate on the electrical wiring.

For the reasons described above, this [EASA] AD requires modification of the aeroplane by installing a protective plate on the electrical wiring.

You may examine the MCAI in the AD docket on the Internet at http://www.regulations.gov/#!documentDetail;D=FAA-2014-0527-0002.

Comments

We gave the public the opportunity to participate in developing this AD. We received no comments on the NPRM (79 FR 47031, August 12, 2014) or on the determination of the cost to the public.

Conclusion

We reviewed the relevant data and determined that air safety and the public interest require adopting this AD as proposed, with minor editorial changes. We have determined that these minor changes:

• Are consistent with the intent that was proposed in the NPRM (79 FR 47031, August 12, 2014) for correcting the unsafe condition; and

• Do not add any additional burden upon the public than was already proposed in the NPRM (79 FR 47031, August 12, 2014).

Related Service Information

We reviewed Dassault Service Bulletin F50-530, dated November 12, 2013. The service information describes procedures for installing two protective plates between the electrical wiring under the glare shield and the engine fire pull handles. You can find this information at http://www.regulations.gov by searching for and locating Docket No. FAA-2014-0527.

Costs of Compliance

We estimate that this AD affects 250 airplanes of U.S. registry.

We estimate the following costs to comply with this AD:

Estimated Costs
Action | Labor cost | Parts cost | Cost per product | Cost on U.S. operators
Installation | 26 work-hours × $85 per hour = $2,210 | $96 | $2,306 | $576,500

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0527; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-02-04 Dassault Aviation: Amendment 39-18071. Docket No. FAA-2014-0527; Directorate Identifier 2014-NM-045-AD.

(a) Effective Date

This AD becomes effective March 6, 2015.

(b) Affected ADs

None.

(c) Applicability

This AD applies to Dassault Aviation Model MYSTERE-FALCON 50 airplanes, certificated in any category, as identified in paragraphs (c)(1) and (c)(2) of this AD.

(1) Airplanes with manufacturer serial numbers 5, 7, 27, 30, 34, 36, 78, 132, and 251 through 352 inclusive.

(2) Airplanes with manufacturer serial numbers 2 through 250 inclusive, having Honeywell (formerly Allied Signal, Garrett AiResearch) TFE731-40-1C engines modified by Dassault Aviation Service Bulletin F50-280.

(d) Subject

Air Transport Association (ATA) of America Code 24, Electrical Power.

(e) Reason

This AD was prompted by a report of an untimely and intermittent indication of slat activity due to chafing of the electrical wiring under the glare shield and behind the flight deck front panel. We are issuing this AD to prevent chafing of the electrical wiring, which could result in a short circuit and generation of smoke in the cockpit, potential loss of several functions essential for safe flight, and consequent reduced controllability of the airplane.

(f) Compliance

Comply with this AD within the compliance times specified, unless already done.

(g) Install Protective Plates

Within 74 months after the effective date of this AD, install two Rilsan protective plates between the glare shield electrical wiring and the engine fire pull handles, in accordance with the Accomplishment Instructions of Dassault Service Bulletin F50-530, dated November 12, 2013.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(i) Related Information

Refer to Mandatory Continuing Airworthiness Information (MCAI) EASA Airworthiness Directive 2014-0024, dated January 23, 2014, for related information. This MCAI may be found in the AD docket on the Internet at http://www.regulations.gov by searching for and locating it in Docket No. FAA-2014-0527-0002.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F50-530, dated November 12, 2013.

(ii) Reserved.

(3) For service information identified in this AD, contact Dassault Falcon Jet, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 12, 2015.
John P. Piccola, Jr.,
Acting Manager, Transport Airplane Directorate, Aircraft Certification Service.

[FR Doc. 2015-01185 Filed 1-29-15; 8:45 am]

BILLING CODE 4910-13-P